DEPARTMENT OF JUSTICE

Proposed Modification of Consent Decree Under the Comprehensive Environmental Response, Compensation, and Liability Act

Notice is hereby given that on February 5, 2010, a stipulation seeking to modify certain provisions of the January 27, 2005 Consent Decree entered in United States v. Chief Consolidated Mining Company, Civ. No. 2:04CV00891 BSJ, was filed in the United States District Court for the District of Utah.

In exchange for releasing Chief from its $60 million confession of judgment, certain future income recapture provisions, and an obligation to sell certain on-Site, non-mining land required by the 2005 Consent Decree, the Stipulation Modifying Consent Decree substitutes a requirement for Chief to pay to the Environmental Protection Agency (“EPA”) $225,000 a year for each of the five years following the modification (total payment of $1,125,000). The Stipulation also extends until December 31, 2013 certain provisions of the Consent Decree related to Chief's in-kind clean up contributions and provides a grant from Chief to the City of Eureka, Utah of an easement. The easement will facilitate the City's role in maintaining the integrity of EPA's Site remedy. The proposed modifications liquidate for equivalent monetary value certain obligations under the Consent Decree which Chief is no longer able to perform due to changing circumstances and are consistent with Chief's ability-to-pay limitations which were recognized in the initial settlement.

The Department of Justice will receive for a period of thirty (30) days from the date of this publication comments relating to the Stipulation Modifying Consent Decree. Comments should be addressed to the Assistant Attorney General, Environment and Natural Resources Division, and either e-mailed to pubcomment-ees.enrd@usdoj.gov or mailed to P.O. Box 7611, U.S. Department of Justice, Washington, DC 20044-7611, and should refer to United States v. Chief Consolidated Mining Company, Civil Action. No. 2:04CV00891 BSJ, D.J. Ref. 90-11-3-07993/2.

The Stipulation Modifying Consent Decree may be examined at U.S. EPA Region 8, 1595 Wynkoop Street, Denver, Colorado 80202-1129. During the public comment period, the Stipulation Modifying Consent Decree, may also be examined on the following Department of Justice Web site, http://www.usdoj.gov/enrd/Consent_Decrees.html. A copy of the Stipulation Modifying Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, exclusive of exhibits and defendants' signatures, please enclose a check in the amount of $2.75 (25¢ per page reproduction cost) payable to the U.S. Treasury or, if by e-mail or fax, forward a check in that amount to the Consent Decree Library at the stated address. If requesting a copy with exhibits, enclose a check in the amount of $4.00.

Maureen Katz,
Assistant Chief, Environmental Enforcement Section, Environment and Natural Resources Division.

[FR Doc. 2010-6752 Filed 3-25-10; 8:45 am]

BILLING CODE 4410-15-P